OFFICE OF PERSONNEL MANAGEMENT

Submission for Review: Questionnaire for Public Trust Positions (SF 85P) and Supplemental Questionnaire for Selected Positions (SF 85P-S)

AGENCY: Office of Personnel Management.

ACTION: 30-Day notice and request for comments.

SUMMARY: The Office of Personnel Management (OPM), Suitability Executive Agent Programs, is notifying the general public and other Federal agencies that OPM proposes to request the Office of Management and Budget (OMB) revise and renew the Questionnaire for Public Trust Positions (SF 85P) and Supplemental Questionnaire for Selected Positions (SF 85P-S).

DATES: Comments are encouraged and will be accepted until March 1, 2024.

ADDRESSES: Written comments and recommendations for the proposed information collection should be sent within 30 days of publication of this notice to https://www.reginfo.gov/public/do/PRAMain. Find this particular information collection by selecting “Currently under Review—Open for Public Comments” or by using the search function.

FOR FURTHER INFORMATION CONTACT: A copy of this information collection, with applicable supporting documentation, may be obtained by contacting Office of Personnel Management, Suitability Executive Agent Programs, P.O. Box 699, Slippery Rock, PA 16057, or by electronic mail at SuitEAForms@opm.gov. Please contact Alexys Stanley at 202-936-2501, if you have questions.

SUPPLEMENTARY INFORMATION: As required by the Paperwork Reduction Act of 1995, OPM is soliciting comments for this collection (OMB No. 3206-0258). This information collection was previously published in the Federal Register on November 1, 2023, at 88 FR 75078, allowing for a 60-day public comment period. No comments were received for this collection. The purpose of this notice is to allow an additional 30 days for public comments. OPM is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Background: The Questionnaire for Public Trust Positions, SF 85P, and Supplemental Questionnaire for Selected Positions, SF 85P-S, are information collections completed by applicants for, or incumbents of, Federal Government civilian positions, or positions in private entities performing work for the Federal Government under contract (SF 85P only). The collections are used as the basis of information for background investigations to establish that such persons are:

Suitable for employment or retention in Federal employment in a public trust position or fit for employment or retention in Federal employment in the excepted service when the duties to be performed are equivalent in degree of trust reposed in the incumbent to a public trust position;

Fit to perform work on behalf of the Federal Government pursuant to the Government contract, when the duties to be performed are equivalent in degree of trust reposed in the individual to a public trust position; and

Eligible for physical and logical access to federally controlled facilities or information systems, when the duties to be performed by the individual are equivalent to the duties performed by an employee in a public trust position.

For applicants, the SF 85P and SF 85P-S are to be used only after a conditional offer of employment has been made. The SF 85P-S is supplemental to the SF 85P and is used only as approved by OPM, for certain positions such as those requiring carrying of a firearm. eApp (Electronic Application) is a web-based application that houses the SF 85P and SF 85P-S. A variable in assessing burden hours is the nature of the electronic application. The electronic application includes branching questions and instructions which provide for a tailored collection from the respondent based on varying factors in the respondent's personal history. The burden on the respondent is reduced when the respondent's personal history is not relevant to a particular question. The question branches, or expands for additional details, only for those persons who have pertinent information to provide regarding that line of questioning. Accordingly, the burden on the respondent will vary depending on whether the respondent's personal history relates to the information collection.

OPM recommends renewal of the form. Since posting the 60 Day Notice, OPM is making a minor change to the Instructions and Fair Credit Reporting Disclosure and Authorization that accompanies the form by removing instructions related to security freezes on consumer or credit files. With the passage of the Economic Growth, Regulatory Relief, and Consumer Protection Act which was signed into law on May 24, 2018, security freezes do not apply to the making of a credit report for use in connection with employment or background screening purposes. Therefore, it is no longer necessary for individuals undergoing a background investigation to request the freeze be lifted.

Analysis:

Agency: Suitability Executive Agent Programs, Office of Personnel Management.

Title: Questionnaire for Public Trust Positions (SF 85P) and Supplemental Questionnaire for Selected Positions (SF 85P-S).

OMB Number: 3206-0258.

Frequency: On occasion.

Affected Public: Individuals or Households.

Number of Respondents: 152,700 (SF 85P); 16,700 (SF 85P-S).

Estimated Time per Respondent: 155 minutes (SF 85P); 10 minutes (SF 85P-S).

Total Burden Hours: 394,475 (SF 85P); 2,783 (SF 85P-S).

Office of Personnel Management.
Kayyonne Marston,
Federal Register Liaison.

[FR Doc. 2024-01859 Filed 1-30-24; 8:45 am]

BILLING CODE 6325-66-P